FEDERAL ELECTION COMMISSION

Sunshine Act Meeting

TIME AND DATE: Thursday, July 29, 2021 at 10:00 a.m.

PLACE: Virtual meeting. Note: Because of the COVID-19 pandemic, we will conduct the open meeting virtually. If you would like to access the meeting, see the instructions below.

STATUS: This meeting will be open to the public. To access the virtual meeting, go to the commission's website www.fec.gov and click on the banner to be taken to the meeting page.

MATTERS TO BE CONSIDERED:

Draft Advisory Opinion 2021-07: PAC Management Services LLC (“PACMS”)

Draft Advisory Opinion 2021-08: Congressman Scott Fitzgerald

REG 2021-02 (Subvendor Reporting)—Draft Notification of Availability

Management and Administrative Matters

CONTACT PERSON FOR MORE INFORMATION: Judith Ingram, Press Officer. Telephone: (202) 694-1220.

Authority: Government in the Sunshine Act, 5 U.S.C. 552b.

Laura E. Sinram,
Acting Secretary and Clerk of the Commission.

[FR Doc. 2021-15910 Filed 7-22-21; 11:15 am]

BILLING CODE 6715-01-P